DEPARTMENT OF DEFENSE

Department of the Army, Army Corps of Engineers

Notice of Solicitation of Applications for Stakeholder Representative Members of the Missouri River Recovery Implementation Committee; Correction

AGENCY: U.S. Army Corps of Engineers, DoD.

ACTION: Notice; extension of application deadline; correction.

SUMMARY: The Army Corps of Engineers published a document in the Federal Register of June 4, 2018, soliciting applications to fill vacant stakeholder representative member positions on the Missouri River Recovery Implementation Committee (MRRIC). The document contained an incomplete list of stakeholder interest categories. There are three additional stakeholder interest categories. The Corps is also extending the deadline for submitting applications to August 2, 2018.

DATES: The agency must receive completed applications and endorsement letters no later than August 2, 2018.

FOR FURTHER INFORMATION CONTACT: Lisa Rabbe, 816-389-3837.

Correction

In the Federal Register of June 4, 2018, in FR Doc. 2018-11891, on page 25655, correct the fourth paragraph in the third column as follows:

This Notice is for individuals interested in serving as a stakeholder member on the Committee. Members and alternates must be able to demonstrate that they meet the definition of “stakeholder” found in the Charter of the MRRIC. Applications are currently being accepted for representation in the stakeholder interest categories listed below:

a. Environmental/Conservation Org;

b. Hydropower;

c. Local Government;

d. Major Tributaries;

e. Navigation;

f. Recreation;

g. Thermal Power;

h. Water Supply;

i. Conservation Districts;

j. Irrigation; and

k. Fish & Wildlife.

Dated: June 25, 2018.
Mark Harberg,
Program Manager for the Missouri River Recovery Program (MRRP).

[FR Doc. 2018-14189 Filed 6-29-18; 8:45 am]

BILLING CODE 3720-58-P